FEDERAL COMMUNICATIONS COMMISSION

Notice of Public Information Collection(s) Being Reviewed by the Federal Communications Commission, Comments Requested

July 10, 2008.

SUMMARY: The Federal Communications Commission, as part of its continuing effort to reduce paperwork burdens, invites the general public and other Federal agencies to take this opportunity to comment on the following information collection, as required by the Paperwork Reduction Act (PRA) of 1995, Public Law No. 104-13. An agency may not conduct or sponsor a collection of information unless it displays a currently valid control number. Pursuant to the PRA, no person shall be subject to any penalty for failing to comply with a collection of information that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 16, 2008. If you anticipate that you will be submitting comments, but find it difficult to do so within the period of time allowed by this notice, you should advise the contact listed below as soon as possible.

ADDRESSES: Interested parties may submit all PRA comments by e-mail or U.S. mail. To submit your comments by e-mail, send them to PRA@fcc.gov. To submit your comments by U.S. mail, mark them to the attention of Cathy Williams, Federal Communications Commission, Room 1-C823, 445 12th Street, SW., Washington, DC 20554.

FOR FURTHER INFORMATION CONTACT: For additional information about the information collection, send an e-mail to PRA@fcc.gov or contact Cathy Williams at 202-418-2918.

SUPPLEMENTARY INFORMATION: OMB Control Number: 3060-0466.

Title: Sections 73.1201, 74.783 and 74.1283, Station Identification.

Form Number: Not applicable.

Type of Review: Revision of a currently approved collection.

Respondents: Business or other for-profit entities; Not-for-profit institutions; State, Local and Tribal Government.

Number of Respondents and Responses: 20,000 respondents; 20,100 responses.

Estimated Time per Response: 10 minutes to 1.33 hours.

Frequency of Response: Recordkeeping requirement; Third-party disclosure requirement; On occasion reporting requirement.

Obligation to Respond: Required to obtain benefits—Statutory authority for this collection of information is contained in Sections 154(i), 303 and 308 of the Communications Act of 1934, as amended.

Total Annual Burden: 44,603 hours.

Total Annual Costs: None.

Confidentiality: No need for confidentiality required.

Privacy Impact Assessment(s): No impact(s).

Needs and Uses: Congress has mandated that after February 17, 2009, full-power television broadcast stations must transmit only in digital signals, and may no longer transmit analog signals. On December 22, 2007, the Commission adopted a Report and Order, In the matter of the Third Periodic Review of the Commission's Rules and Policies Affecting the Conversion to Digital Television, MB Docket No. 07-91, FCC 07-228 (“Third DTV Periodic Report and Order”) to establish the rules, policies and procedures necessary to complete the nation's transition to DTV.

As a result of the Third DTV Periodic Report and Order, the station identification rules will require a DTV station that chooses to identify a licensee that it is transmitting on one of its multicast streams to follow a specific format for making such a station identification announcement. Specifically, 47 CFR 73.1201(b)(1) is revised to require that a DTV station that is devoting one of its multicast streams to transmit the programming of another television licensee must identify itself and may also identify the licensee that it is transmitting. If a DTV station in this situation chooses to identify the station that is the source of the programming it is transmitting, it must use the following format: Station WYYY-DT, community of license (call sign and community of license of the station whose multicast stream is transmitting the programming), bringing you WXXX, community of license (call sign and community of license of the licensee providing the programming). The transmitting station may insert between its call letters and its community of license the following information: the frequency of the transmitting station, the channel number of the transmitting station, the name of the licensee of the transmitting station and the licensee providing the programming, and/or the name of the network of either station. Where a multicast station is carrying the programming of another station and is identifying that station as the source of the programming, using the format described above, the identification may not include the frequency or channel number of the program source. This new requirement in 47 CFR 73.1201(b)(1) may cause DTV station respondents that choose to multicast to make additional station identifications (responses) for multicast streams.

47 CFR 73.1201(a) requires television broadcast licensees to make broadcast station identification announcements at the beginning and ending of each time of operation, and hourly, as close to the hour as feasible, at a natural break in program offerings. Television and Class A television broadcast stations may make these announcements visually or aurally.

47 CFR 73.1201(b)(1) requires that the official station identification consist of the station's call letters immediately followed by the community or communities specified in its license as the station's location; provided that the name of the licensee, the station's frequency, the station's channel number, as stated on the station's license, and/or the station's network affiliation may be inserted between the call letters and station location. DTV stations, or DAB Stations, choosing to include the station's channel number in the station identification must use the station's major channel number and may distinguish multicast program streams. For example, a DTV station with major channel number 26 may use 26.1 to identify an HDTV program service and 26.2 to identify an SDTV program service. A radio station operating in DAB hybrid mode or extended hybrid mode shall identify its digital signal, including any free multicast audio programming streams, in a manner that appropriately alerts its audience to the fact that it is listening to a digital audio broadcast. No other insertion between the station's call letters and the community or communities specified in its license is permissible.

47 CFR 73.1201(b)(2) provides that a station may include in its official station identification the name of any additional community or communities, but the community to which the station is licensed must be named first.

47 CFR 73.1201(b)(3) requires that twice daily, the station identification for television stations must include a notice of the existence, location and accessibility of the station's public file. The notice must state that the station's public file is available for inspection and that consumers can view it at the station's main studio and on its Web site. At least one of the announcements must occur between the hours of 6 p.m. and midnight.

47 CFR 74.783(b) requires licensees of television translators whose station identification is made by the television station whose signals are being rebroadcast by the translator, must secure agreement with this television licensee to keep in its file, and available to FCC personnel, the translator's call letters and location, giving the name, address and telephone number of the licensee or service representative to be contacted in the event of malfunction of the translator.

47 CFR 74.783(e) permits any low-power television (LPTV) station to request a four-letter call sign after receiving its construction permit. All initial LPTV construction permits will continue to be issued with a five-character LPTV call sign. LPTV respondents are required to use the online electronic system. To enable these respondents to use this online system, the Commission eliminated the requirement that holders of LPTV construction permits submit with their call sign requests a certification that the station has been constructed, that physical construction is underway at the transmitter site, or that a firm equipment order has been placed.

47 CFR 74.1283(c)(1) requires FM translator stations whose station identification is made by the primary station to furnish current information on the translator's call letters and location. This information is kept in the primary station's files. This information is used to contact the translator licensee in the event of malfunction of the translator.

OMB Control Number: 3060-0906.

Title: Annual DTV Report, FCC Form 317; 47 CFR § 73.624(g).

Form Number: FCC Form 317.

Type of Review: Revision of a currently approved collection.

Respondents: Business or other for-profit entities; Not-for-profit institutions.

Number of Respondent and Responses: 1,815 respondents, 3,630 responses.

Frequency of Response: Recordkeeping requirement; Annual reporting requirement.

Obligation to Respond: Required to obtain benefits—Statutory authority for this collection of information is contained in Sections 154(i), 303, 336 and 403 of the Communications Act of 1934, as amended.

Estimated Time per Response: 2-4 hours.

Total Annual Burden: 10,890 hours.

Total Annual Costs: $181,500.

Confidentiality: No need for confidentiality required.

Privacy Impact Assessment: No impact(s).

Needs and Uses: Congress has mandated that after February 17, 2009, full-power television broadcast stations must transmit only in digital signals, and may no longer transmit analog signals. On December 22, 2007, the Commission adopted a Report and Order In the matter of the Third Periodic Review of the Commission's Rules and Policies Affecting the Conversion to Digital Television, MB Docket No. 07-91, FCC 07-228 (“Third DTV Periodic Report and Order”) to establish the rules, policies and procedures necessary to complete the nation's transition to DTV. As a result of the Third DTV Periodic Report and Order, DTV stations that are permittees must now comply with the requirements for feeable ancillary or supplementary services in Section 73.624(g) (using FCC Form 317). This new requirement in 47 CFR 73.624(g) adds a new group of respondents to this collection (namely, “DTV permittees”). The Commission has also revised FCC Form 317 and its instructions to indicate that DTV permittees are required to file the form and report their ancillary and supplementary services.

Each commercial and noncommercial educational (NCE) digital television (DTV) broadcast station licensee and permittee is required to file FCC Form 317 annually. The licensees/permittees report whether they provided ancillary or supplementary services at any time during the reporting cycle. The report indicates which services were provided, fee related services, gross revenues received from all feeable ancillary and supplementary services, and the amount of bitstream used to provide ancillary or supplementary service.

Concurrent with the submission of FCC Form 317, each commercial and noncommercial educational DTV licensee and permittee is required to remit to the Commission a payment, FCC Form 159 (3060-0589), in the amount of 5% of the gross revenues derived from the provision of its ancillary or supplementary services.

Each licensee and permittee is required to retain the records supporting the calculation of the fees due for three years from the date of remittance of fees. Noncommercial DTV licensees/permittees must also retain for eight years documentation sufficient to show that their entire bitstream was used “primarily” for noncommercial education broadcast services on a weekly basis.

Federal Communications Commission.
Marlene H. Dortch,
Secretary.

[FR Doc. E8-16539 Filed 7-17-08; 8:45 am]

BILLING CODE 6712-01-P